DEPARTMENT OF AGRICULTURE

Forest Service

Intergovernmental Advisory Committee Meeting

AGENCY: Forest Service, USDA.

ACTION: Notice of meeting.

SUMMARY: The Intergovernmental Advisory Committee (IAC) will meet on December 4, 2002, at the Doubletree Hotel-Lloyd Center, located at 1000 NE Multnomah in Portland, Oregon 97220. The primary purpose of the meeting is to continue with discussions on implementation of the Northwest Forest Plan (NWFP). IAC members are invited to meet at the hotel prior to the meeting for lunch at 12 noon. The meeting is scheduled to begin at 1 p.m. and continue until 5 p.m. Agenda items for the meeting include, but are not limited to: Introductions of new members, potential NWFP improvements, future IAC agenda topics, and recent court rulings related to the NWFP. The meeting is open to the public and is fully accessible for people with disabilities. Interpreters are available upon request at least 10 days in advance of the meeting. Written comments may be submitted for the record at the meeting. A time slot for oral public comments during the meeting is scheduled. Interested persons are encouraged to attend.

FOR FURTHER INFORMATION CONTACT: Questions regarding this meeting may be directed to Steve Odell, Executive Director, Regional Ecosystem Office, 333 SW First Avenue, PO Box 3623, Portland, OR 97208 (Phone: 503-808-2165).

Dated: November 12, 2002.
Stephen J. Odell,
Designated Federal Official.

[FR Doc. 02-29411 Filed 11-19-02; 8:45 am]

BILLING CODE 3410-11-P